DEPARTMENT OF ENERGY

Federal Energy Regulatory Commission

[Docket No. CP04-60-000]

Tennessee Gas Pipeline Company; Notice of Technical Conference

April 12, 2004.

On January 30, 2004, Tennessee Gas Pipeline Company (Tennessee) filed a request pursuant to §§ 157.205, 157.208 and 157.211 of the Federal Energy Regulatory Commission's (Commission) regulations under the Natural Gas Act (NGA), for authorization to construct a lateral pipeline and delivery point to facilitate gas transportation services to a new delivery point in Massachusetts under Tennessee's blanket certificate issued in Docket No. CP82-413-000. Commission staff protested the application, objecting to Tennessee's rate proposal. The purpose of the conference is to discuss the Commission staff's protest, the nature of Tennessee's proposal and the underlying business transaction.

Take notice that a technical conference to discuss the various issues mentioned above will take place on April 22, 2004, at 10 a.m. at the Commission's offices at 888 First Street NE., Washington, DC 20426.

Any parties to this proceeding who have questions about, or plan to attend the technical conference should contact Todd Ruhkamp at (202) 502-6812 or William Zoller at (202) 502-8191.

Magalie R. Salas,
Secretary.

[FR Doc. E4-867 Filed 4-16-04; 8:45 am]

BILLING CODE 6717-01-P